DEPARTMENT OF TRANSPORTATION

Federal Aviation Administration

14 CFR Part 71

[Docket No. FAA-2002-13413; Airspace Docket No. 02-ACE-6]

Realignment of Federal Airways V-72 and V-289; MO

AGENCY: Federal Aviation Administration (FAA), DOT.

ACTION: Final rule.

SUMMARY: This action realigns Federal Airways 72 (V-72) and V-289 northeast of the Dogwood, MO, Very High Frequency Omnidirectional Range/Tactical Air Navigation (VORTAC) so that aircraft may operate on the airways without encroaching on the newly modified Cannon A Military Operations Areas (MOA). The FAA is taking this action to enhance safety and the management of aircraft operations in the Dogwood, MO, area.

EFFECTIVE DATE: 0901 UTC, March 20, 2003.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

On October 3, 2002, the lateral boundaries of the Cannon A MOA were modified and the ceiling of the Cannon A MOA was raised from 5,000 feet above mean sea level up to but not including Flight Level 180. The MOA modification rendered portions of V-72 and V-289 unusable. Currently, V-289 passes through the lateral limits of the Cannon A MOA and V-72 is located immediately to the south of the Cannon A MOA at a distance that does not provide the air traffic control required separation from the MOA when the area is active. This action will allow the use of V-72 and V-289 when the Cannon A MOA is active and will enhance safety and the management of aircraft operations in the Dogwood, MO, area.

The Rule

This amendment to 14 CFR part 71 realigns a segment of V-72, northeast of the Dogwood, MO, VORTAC, clockwise by one degree and realigns V-289 to coincide with V-72 for 19 nautical miles (NM) northeast of the Dogwood, MO, VORTAC before proceeding directly to the Vichy, MO, VORTAC. This realignment will allow for the use of V-72 and V-289 when the Cannon A MOA is active and will enhance the safety and management of aircraft operations in the Dogwood, MO, area. Because this action is needed for safety reasons, I find that notice and public procedure under 5 U.S.C. 553(b) are impracticable and contrary to the public interest.

This regulation is limited to an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since it has been determined that this is a routine matter that will only affect air traffic procedures and air navigation, it is certified that this rule, when promulgated, will not have a significant economic impact on a substantial number of small entities under the criteria of the Regulatory Flexibility Act.

Federal airways are published in paragraph 6010(a) of FAA Order 7400.9K dated August 30, 2002, and effective September 16, 2002, which is incorporated by reference in 14 CFR 71.1. The Federal airways listed in this document will be published subsequently in the Order.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

Paragraph 6010(a)—Domestic VOR Federal Airways

* * * * *

V-72 [Revised]

From Razorback, AR, Dogwood, MO; INT Dogwood 052° and Maples, MO, 230° radials; Maples; Farmington, MO; Centralia, IL; Bible Grove, IL; Mattoon, IL; to Bloomington, IL. From Rosewood, OH; Mansfield, OH; INT Mansfield 098° and Akron, OH, 233° radials; Akron; Youngstown, OH; Tidioute, PA; Bradford, PA; INT Bradford 078° and Elmira, NY, 252° radials; Elmira; Binghamton, NY; Rockdale, NY; Albany, NY; Cambridge, NY; INT Cambridge 063° and Lebanon, NH, 214° radials; to Lebanon.

* * * * *

V-289 [Revised]

From Beaumont, TX; INT Beaumont 323° and Lufkin, TX, 161° radials; Lufkin; Gregg County, TX; Texarkana, AR; Fort Smith, AR; Harrison, AR; Dogwood, MO; INT Dogwood 052° and Maples, MO, 230° radials; INT Maples 230° and Vichy, MO, 198° radials; to Vichy. The airspace within R-4501A, R-4501B, R-4501C and R-4501D is excluded during their time of activation.

* * * * *

Issued in Washington, DC, on January 6, 2003.
Reginald C. Matthews,
Manager, Airspace and Rules Division.

[FR Doc. 03-919 Filed 1-15-03; 8:45 am]

BILLING CODE 4910-13-P